DEPARTMENT OF THE INTERIOR

Bureau of Indian Affairs

Certificate of Degree of Indian or Alaska Native Blood Information Collection, Comment Request

AGENCY: Bureau of Indian Affairs, Interior.

ACTION: Notice of Proposed Agency Information Collection.

SUMMARY: The Bureau of Indian Affairs is seeking comments from the public on an extension of an information collection from persons seeking proof of American Indian or Alaska Native blood, as required by the Paperwork Reduction Act. The information collected under OMB Control Number 1076-0153 will be used to establish that the applicants meet requirements for official recognition as an American Indian or Alaska Native for purposes of eligibility determination and participation in programs administered through the U. S. Bureau of Indian Affairs.

DATES: Submit comments on or before December 31, 2007.

ADDRESSES: Written comments can be sent to Ms. Daisy West, Chief, Division of Tribal Government Services, Office of Indian Services, Bureau of Indian Affairs, 1849 C Street NW., Mail Stop 4513 MIB, Washington, DC 20240.

FOR FURTHER INFORMATION CONTACT: Ms. Daisy West, Chief, Division of Tribal Government Services, (202) 513-7626.

SUPPLEMENTARY INFORMATION: This collection was originally approved and assigned OMB Control No. 1076-0153 when it was submitted with a proposed rulemaking, 25 CFR Part 70, which was published in the Federal Register on April 18, 2000 (66 FR 20775). The proposed rulemaking has not been finalized due to various reasons. We are in the process of developing guidance for processing applications for Certificates of Degree of Indian or Alaska Native Blood (CDIB).

Request for Comments

We are requesting comments about the proposed collection to evaluate:

(a) The accuracy of the burden hours, including the validity of the methodology used and assumptions made;

(b) The necessity of the information for proper performance of the bureau functions, including its practical utility;

(c) The quality, utility, and clarity of the information to be collected; and,

(d) Suggestions to reduce the burden including use of automated, electronic, mechanical, or other forms of information technology.

The public is advised that an agency may not conduct or sponsor, and a person is not required to respond to, a collection of information that does not display a valid OMB clearance number. For example, this collection is listed by OMB as Control No. 1076-0153, and it expires 11/30/2007. The response is voluntary to obtain or retain a benefit.

Please submit your comments to the person listed in the ADDRESSES section. Please note that comments, names and addresses of commentators, are open for public review during the hours of 8 a.m. to 3 p.m., EST, Monday through Friday except for legal holidays. If you wish your name and address withheld, you must state this prominently at the beginning of your comments. We will honor your request to the extent allowable by law.

Information Collection Abstract

OMB control number: 1076-0153.

Type of review: Renewal.

Brief description of collection: The information will be used to establish that the applicants have Indian or Alaska Native ancestry from a tribe indigenous to the United States, and the degree of Indian or Alaska Native blood will be documented by using historical records prepared by the Bureau of Indian Affairs. The CDIB will be used for purposes of eligibility determination and participation in programs administered through the U. S. Bureau of Indian Affairs.

Affected Entities: Individual Indian Applicants.

Estimated number of respondents: 154,980.

Estimated time per response: 1.5 hours.

Number of Annual Responses: 154,980.

Total annual burden hours: 232,470 hours.

Dated: October 22, 2007.
Carl J. Artman,
Assistant Secretary—Indian Affairs.

[FR Doc. E7-21317 Filed 10-29-07; 8:45 am]

BILLING CODE 4310-4J-P